DEPARTMENT OF THE INTERIOR

Bureau of Land Management

[MT-010-1060-00 HI]

Public Land Closures; Temporary Closure of Designated Areas of the Pryor Mountain National Wild Horse Range in the Southeastern Portion of Carbon County, Montana and the Northern Portion of Big Horn County, Wyoming, to Public Access, Use, or Occupancy

AGENCY: Bureau of Land Management (BLM), Montana, Billings Field Office, Interior.

SUMMARY: Notice is served that designated areas of the Pryor Mountain National Wild Horse Range will be closed to all unauthorized persons.

DATES: Rotating closures will be in effect from on, or about, September 10, 2001, 0001 AM MDT through the conclusion of the gather operation, anticipated to conclude September 30, 2001 6:00 PM MDT depending on the weather and success of gather and adoption operations.

Discussion of the Closure

This closure is necessary to ensure the safety and welfare of all participants and observers for this gather, and to protect the wild horses as a natural resource on public lands. Efforts will be made to avoid time periods, such as weekends, of heavier anticipated use of the range. The helicopter contractor is available to work on weekends, however, and this may be necessary due to temporary weather shutdowns, or other unforseen circumstances. This will be the second time that helicopters are used as the primary tool for herding horses into the Britton Springs Corral facility on the Pryor Mountain National Wild Horse Range. In order to operate the aircraft in a safe and effective manner, and based on experience gained in the 1997 gather, it is necessary to close the affected areas to all public use during actual herding operations. The wild horses are separated into social groups that occupy three fairly distinct geographic areas of the range including Sykes Ridge, Burnt Timber Ridge, and the Dry Head/Layout Creek portions of the Bighorn Canyon National Recreation Area. Gather operations will be selective and will focus on one geographic area at a time. Normal aircraft operations will probably conclude in the early afternoon of each day of operations, following which the affected areas will be opened until the next aircraft operational period. Detailed information may be obtained from: Environmental Assessment and Gather Plan Pryor Mountain Wild Horse Range, FY 2001 Wild Horse Population Gather & Selective Removal: EA # MT-010-1-44, dated June 19, 2001.

This closure will be on a temporary and rotating basis during a gather operation beginning on or about September 10, 2001. It is anticipated that the operation will take approximately three weeks, depending on weather and other variable conditions. Areas to be closed include Sykes Ridge, Bighorn Canyon National Recreation Area (BICA) Dryhead area, Burnt Timber Ridge and the Britton Springs Administrative Site. Each area will be closed individually for one to three (1-3) days depending upon the outcome of gather operations. Only one area will be closed during any given period, except for the Britton Springs Administrative Site which will be closed for the duration of the operation. Gather efforts within the BICA Dryhead area will be coordinated through the National Park Service. Dryhead activities will not result in closures, but some traffic control may be effected during actual operations. Affected lands are as follows:

Sykes Ridge Closure Area

Principal Meridian, Montana

Township 8 S., Range 28 E., PMM

Sec. 4: M&B

Sec. 5: All

Sec. 8: M&B

Sec. 9: All

Sec. 10: M&B

Sec. 16: All

Sec. 17: All

Sec. 20: All

Sec. 21: W½E½

Sec. 28: W½

Sec. 29: All

Sec. 32: All

Sec. 33: W½ , W½SE¼

Township 9 S., Range 28 E., PMM

Sec. 4: NWNE, S½NE¼, W½, SE¼

Sec. 5: All

Sec. 8: All

Sec. 9: All

Sec. 10: W½ SW¼

Sec. 15: NWNW, S½NW¼, SW¼

Sec. 16: All

Sec. 17: All

Sec. 20: All

Sec. 21: All

Sec. 22: W½

Sec. 27: All

Sec. 28: All

Sec. 29: All

Sec. 32: All

Sec. 33: All

Sec. 34: All

Sixth Principal Meridian, Wyoming

Township 58 N., Range 95 W., 6th PM

Sec. 19: M&B

Sec. 20: M&B

Sec. 21: All

Sec. 22: All

Sec. 23: M&B

Sec. 27: All

Sec. 28: All

Sec. 29: M&B

Sec. 33: M&B

Sec. 34: M&B (end)

Burnt Timber Ridge Closure

Principal Meridian, Montana

Township 8 S., Range 27 E. PMM

Sec. 12: All

Sec. 13: All

Sec. 24: All

Sec. 25: All

Sec. 26: All

Sec. 35: All

Sec. 36: All

Township 8 S., Range 28 E., PMM

Sec. 6: All

Sec. 7: All

Sec. 8: All

Sec. 17: All

Sec. 18: All

Sec. 19: All

Sec. 20: All

Sec. 29: All

Sec. 30: All

Sec. 31: All

Sec. 32: All

Township 9 S., Range 27 E., PMM

Sec. 1: All

Sec. 2: All

Sec. 11: All

Sec. 12: All

Sec. 13: All

Sec. 14: All

Sec. 23: All

Sec. 24: All

Sec. 25: All

Sec. 36: All

Township 8 S., Range 28 E., PMM

Sec. 5: All

Sec. 6: All

Sec. 7: All

Sec. 8: All

Sec. 17: All

Sec. 18: All

Sec. 19: All

Sec. 20: All

Sec. 29: All

Sec. 30: All

Sec. 31: All

Sec. 32: All

Sec. 33: All

Sixth Principal Meridian, Wyoming

Township 58 N., Range 95 W., 6th PM

Sec. 19: M&B

Sec. 20: M&B

Sec. 21: All

Sec. 22: All

Sec. 23: M&B

Sec. 27: All

Sec. 28: All

Sec. 29: M&B

Sec. 33: M&B

Sec. 34: M&B (end)

Britton Springs Closure

Principal Meridian, Montana

Township 9 S., Range 27 E., PMM

Sec. 36: M&B

Township 9 S., Ranger 28 E., PMM

Sec. 31: All

Sec. 32: All

Sixth Principal Meridian, Wyoming

Township 58 N., Range 95 W., 6thPM

Sec. 19: M&B

Sec. 20: M&B

Sec. 21: All

Sec. 28: All

Sec. 29: M&B

Sec. 33: M&B

FOR FURTHER INFORMATION CONTACT: Sandra S. Brooks, Billings Field Office Manager, 5001 Southgate Drive, P.O. Box 36800, Billings, MT 59107, or call (406) 896-5013.

Prohibited Acts

Under 43 CFR 8364.1, the Bureau of Land Management is closing the affected lands to all use or occupancy during wild horse gathering, holding, and adoption. No person may occupy or enter the closed area on foot, horseback or by mechanical means.

Exemptions

Persons who are exempt from these rules include any Federal, State, or local officer or employee in the scope of their duties, members of any organized rescue or fire-fighting force in the performance of an official duty, and any person authorized in writing by the Bureau of Land Management.

Penalties

The authority for this closure is found under section 303(a) of the Federal Land Policy and Management Act of 1976 (43 U.S.C. 1733(a); 43 CFR 8364.1, and 43 CFR 8360-7. Any person who violates this closure may be tried before a United States Magistrate and fined no more than $1,000.00 or imprisoned for no more than 12 months, or both. Such violations may also be subject to the enhanced fines provided for by 18 U.S.C. 3571.

Sandra S. Brooks,
Field Office Manager, Billings Field Office.

[FR Doc. 01-21061 Filed 8-20-01; 8:45 am]

BILLING CODE 1060-00-P